DEPARTMENT OF DEFENSE

Office of the Secretary

[Transmittal No. 16-28]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Heather N. Harwell, DSCA/LMO, (703) 697-9217.

The following is a copy of a letter to the Speaker of the House of Representatives, Transmittal 16-28 with attached Policy Justification and Sensitivity of Technology.

Dated: May 4, 2016.
Aaron Siegel,
Alternate OSD Federal Register Liaison Officer, Department of Defense.

Transmittal No. 16-28

Notice of Proposed Issuance of Letter of Offer Pursuant to Section 36(b)(1) of the Arms Export Control Act, as amended

(i) Prospective Purchaser: Government of Tunisia

(ii) Total Estimated Value:

Major Defense Equipment* | $44.3 million
Other | $56.5 million
TOTAL | $100.8 million

(iii) Description and Quantity or Quantities of Articles or Services under Consideration for Purchase:

Major Defense Equipment (MDE):

Twenty-five (25) Embedded GPS/Inertial (EGI) Navigation Systems (INS)

Twenty-four (24) AN/AAR-57 Common Missile Warning Systems (CMWS)

Ten (10) AGM-114R Hellfire Missiles

Eighty-two (82) Advanced Precision Kill Weapon System (APKWS) Rounds

Non-MDE:

This request includes the following Non-MDE:

To be installed on each of the twenty-four (24) EDA OH-58D aircraft: one (1) SHP Rolls-Royce 250-C30R/3 Engine, one (1) AN/ARC-164 UHF Radio, one (1) AN/ARC-186 VHF Radio, one (1) PC-DTS-V Data Recorder, two (2) AN/ARC-201D Radios, one (1) AN/APX-118 IFF Transponder, one (1) AN/APR-39A(V)1/4 Radar Signal Detecting Set, one (1) AN/AVR-2B Laser Warning Receiver, one (1) M134 DH Mini-Gun, one (1) M3P Aircraft Gun System, and two (2) M260 Rocket Launchers.

This request also includes: fifty (50) AN/AVS-6 Night Vision Goggles (NVGs), five-hundred thousand (500,000) 12.7mm rounds for the M3P Gun System, 2.3 million 7.62mm rounds for the M134DH Mini-Gun, the A965M1 Decoy Chaff Cartridges, M211 and M212 Advance Infrared Countermeasures Munition flares, eighty-two (82) MK66 MOD 4 2.75 rocket motors and eighty-two (82) M152 High Explosive (HE) warheads to support the APKWS, one (1) EGI for the Combined Armament Avionics Electrical Trainers, six (6) M279A1 Hellfire Launchers, associated test and support equipment, technical support, the Army's Non-Standard Rotary Wing Aviation Program Manager's Office (NSRWA PMO) technical support, Security Assistance Management Directorate's (SAMD) program technical support, additional contractor support, Peculiar Ground Support Equipment (PGSE), Post Production Support Services (PPSS), Government Furnished Equipment (GFE), Retrofit Service Notice (RSN), Repair and Return (R&R), communication and navigation equipment, aircraft survivability equipment, displays, flyable storage, transportation of aircraft, publications, and training.

(iv) Military Department: Army (IBD)

(v) Prior Related Cases, if any: TU-B-USS-12 JAN 15-$405M

(vi) Sales Commission, Fee, etc., Paid, Offered, or Agreed to be Paid: None

(vii) Sensitivity of Technology Contained in the Defense Article or Defense Services Proposed to be Sold: See Annex attached.

(viii) Date Report Delivered to Congress: 03 May 2016

* as defined in Section 47(6) of the Arms Export Control Act.

POLICY JUSTIFICATION

Tunisia—OH-58D Kiowa Warrior Aircraft Equipment and Support:

The Government of Tunisia has requested a possible sale of:

Major Defense Equipment (MDE):

Twenty-five (25) Embedded GPS/Inertial (EGI) Navigation Systems (INS)

Twenty-four (24) AN/AAR-57 Common Missile Warning Systems (CMWS)

Ten (10) AGM-114R Hellfire Missiles

Eighty-two (82) Advanced Precision Kill Weapon System (APKWS) Rounds

This request includes the following Non-MDE:

To be installed on each of the twenty-four (24) EDA OH-58D aircraft: one (1) SHP Rolls-Royce 250-C30R/3 Engine, one (1) AN/ARC-164 UHF Radio, one (1) AN/ARC-186 VHF Radio, one (1) PC-DTS-V Data Recorder, two (2) AN/ARC-201D Radios, one (1) AN/APX-118 IFF Transponder, one (1) AN/APR-39A(V)1/4 Radar Signal Detecting Set, one (1) AN/AVR-2B Laser Warning Receiver, one (1) M134 DH Mini-Gun, one (1) M3P Aircraft Gun System, and two (2) M260 Rocket Launchers.

This request also includes: fifty (50) AN/AVS-6 Night Vision Goggles (NVGs), five-hundred thousand (500,000) 12.7mm rounds for the M3P Gun System, 2.3 million 7.62mm rounds for the M134DH Mini-Gun, the A965M1 Decoy Chaff Cartridges, M211 and M212 Advance Infrared Countermeasures Munition flares, eighty-two (82) MK66 MOD 4 2.75 rocket motors and eighty-two (82) M152 High Explosive (HE) warheads to support the APKWS, one (1) EGI for the Combined Armament Avionics Electrical Trainers, six (6) M279A1 Hellfire Launchers, associated test and support equipment, technical support, the Army's Non-Standard Rotary Wing Aviation Program Manager's Office (NSRWA PMO) technical support, Security Assistance Management Directorate's (SAMD) program technical support, additional contractor support, Peculiar Ground Support Equipment (PGSE), Post Production Support Services (PPSS), Government Furnished Equipment (GFE), Retrofit Service Notice (RSN), Repair and Return (R&R), communication and navigation equipment, aircraft survivability equipment, displays, flyable storage, transportation of aircraft, publications, and training.

The total estimated value of MDE is $44.3 million. The total overall estimated value is $100.8 million.

Tunisia has been approved to receive twenty-four (24) OH-58D Kiowa Warrior Helicopters via the Excess Defense Articles (EDA) Program under a separate notification. That separate notification included only the OH-58D airframes, thus this transmittal includes all the major components and customer-unique requirements requested to supplement the EDA grant transfer.

This proposed sale will contribute to the foreign policy and national security objectives of the United States by helping to improve the security of Tunisia which has been, and continues to be an important force for political stability and economic progress in the North African region. The United States is committed to the security of Tunisia, and it is vital to U.S. national interests to assist Tunisia to develop and maintain a strong and ready self-defense capability.

The OH-58D Kiowa Warrior helicopters along with the parts, systems, and support enumerated in this notification will improve Tunisia's capability to conduct border security and combat operations against terrorists, including Al-Qaida in the Islamic Maghreb (AQIM), Islamic State in Iraq and the Levant (ISIL) in Libya, and Ansar al-Sharia, Tunisia (AAS-T). These helicopters will further modernize the Tunisian armed forces and increase its interoperability with U.S. forces and other coalition partners. Tunisia will have no difficulty absorbing this equipment into its armed forces.

The proposed sale will not alter the basic military balance in the region.

The principal contractor for this effort is unknown and will be determined during contract negotiations. There are no known offset agreements proposed in connection with this potential sale.

Implementation of this proposed sale will require the assignment of approximately ten (10) additional U.S. Government and approximately fifteen (15) contractor representatives to Tunisia for approximately five (5) years to support the fielding, maintenance, and personal training.

There will be no adverse impact on U.S. defense readiness as a result of this proposed sale.

Transmittal No. 16-28

Notice of Proposed Issuance of Letter of Offer Pursuant to Section 36(b)(1) of the Arms Export Control Act

Annex

Item No. vii

(vii) Sensitivity of Technology:

1. This sale will involve the release of sensitive technology to Tunisia. The OH-58D Kiowa Warrior Helicopter weapons system is classified up to SECRET. The OH-58D aircraft features advanced avionics and other technologically sensitive systems. Aircraft in the U.S. Government configuration will be equipped with one (1) SHP Rolls-Royce 250-C30R/3 Engine, one (1) AN/ARC-164 UHF Radio, one (1) AN/ARC-186 VHF Radio, one (1) PC-DTS-V Data Recorder, two (2) AN/ARC-201D Radios, one (1) AN/APX-118 IFF Transponder, one (1) Embedded GPS/Inertial (EGI) Navigation System (INS), one (1) AN/APR-39A(V)1/4 Radar Signal Detecting Set, one (1) AN/AAR-57 Common Missile Warning System (CMWS), one (1) AN/AVR-2B Laser Warning Receiver, one (1) M134 DH Mini-Gun, one (1) M3P Aircraft Gun System, two (2) M260 Rocket Launchers, Hellfire Missile System, the Advanced Precision Kill Weapon System (APKWS), AN/AVS-6 Night Vision Goggles (NVGs), the AGM-114R Hellfire Missile, A965M1 Decoy Chaff Cartridges, M211 and M212 Advance Infrared Countermeasures Munition flares.

2. Sensitive and/or classified (up to SECRET) elements of the proposed OH-58D Kiowa Warrior Helicopter sale include hardware, accessories, components, and associated software: Embedded GPS/Inertial (EGI) Navigation System (INS), the AN/AAR-57 Common Missile Warning System (CMWS), the AN/APX-118 Transponder Identify Friend or Foe (IFF), the AN/APR-39A(V)1/4 Radar Signal Detecting Set, the AN/AVR-2B Laser Detecting Set, the AN/AVS-6 Night Vision Goggles (NVGs), the AGM-114R Hellfire Missiles, the Advanced Precision Kill Weapon System (APKWS) All-Up-Rounds (AURs), A965M1 Decoy Chaff Cartridge, and the M211 and M212 Advance Infrared Countermeasures Munition flares. Additional sensitive information includes operating manuals, and maintenance technical orders containing performance information, operating and test procedures, and other information related to support operations and repair. The hardware, software, and data identified are classified to protect vulnerabilities, design, and performance parameters, and other similar critical information.

a. The EGI/INS is a navigation platform that combines an inertial sensor assembly with a fixed reception pattern antenna GPS receiver and a common Kalman filter. The EGI system is the primary source for position information. The EGI is UNCLASSIFIED. The GPS crypto variable keys needed for highest GPS accuracy are classified up to SECRET.

b. The AN/AAR-57 Common Missile Warning System utilizes electro-optical sensors to warn the aircrew of threatening missile launch and approach. This system detects and performs data hand-off so countermeasures can be automatically dispensed. The system provides pilots hostile fire indication. The system hardware components are UNCLASSIFIED without installed software. When software is installed, the system is classified up to CONFIDENTIAL.

c. The AN/APX-118 Identification Friend or Foe combined transponder interrogator system is UNCLASSIFIED unless evaluator parameters are enabled, which are SECRET.

d. The AN/APR-39A(V)1/4 Radar Signal Detecting Set provides warning of radar directed threats to allow appropriate evasive maneuvers and deployment of radar countermeasures. The system hardware components are UNCLASSIFIED without installed software. When the software is installed, the system is classified up to CONFIDENTIAL.

e. The AN/AVR-2B Laser Detecting Set is a passive laser warning system that can receive, process, and provide for the display of threat information. The system, hardware components, and software are UNCLASSIFIED.

f. The AN/AVS-6 Night Vision Goggles (NVG) is a 3rd generation aviation NVG offering higher resolution, high gain, and photo response to near infrared. Hardware is UNCLASSIFIED, and technical data and documentation to be provided are UNCLASSIFIED.

g. The AGM-114R Hellfire Missile has sensitive technology contained within operational semi-active laser seeker. The highest level for release of the AGM-114R is SECRET, based upon the semi-active seeker and warhead. Reverse engineering could reveal CONFIDENTIAL information. Vulnerability data, countermeasures, vulnerability/susceptibility analyses, and threat definitions are classified SECRET or CONFIDENTIAL.

h. The Advanced Precision Kill Weapon System (APKWS) All-Up-Round (AUR) is an air-to-ground weapon that consists of an APKWS Guidance Section (GS), 2.75-inch MK66 Mod 4 rocket motor, and MK152 warhead/fuze. APKWS uses a semi-active laser seeker. The GS is installed between the rocket motor and warhead to create a guided rocket. The APKWS may be procured as an independent component to be mated to appropriate 2.75-inch warheads/fuzes and rocket motors purchased separately or may be purchased as an AUR. The overall classification is SECRET.

i. The A965M1 is a 25.4mm Decoy Chaff Cartridge. All cartridge components including the cartridge case, piston, end cap, and theoretical band coverage are UNCLASSIFIED. The specifications and drawings for this item are also UNCLASSIFIED. Radar Cross Section (RCS) measurements of deployed chaff are CONFIDENTIAL. Chaff deployment timing, sequence, pattern, and effectiveness against radar threats are SECRET/NOFORN.

3. Software, hardware, and other data/information, which is classified or sensitive, is reviewed prior to release to protect system vulnerabilities, design data, and performance parameters. Some end-item hardware, software, and other data identified above are classified at the CONFIDENTIAL and SECRET level. Potential compromise of these systems is controlled through management of the basic software programs of highly sensitive systems and software-controlled weapon system on a case-by-case basis.

4. If a technologically advanced adversary were to obtain knowledge of the specific hardware and software elements, the information could be used to develop countermeasures that might reduce weapon system effectiveness or be used in the development of a system with similar capabilities. Weapon system effectiveness to persecute adversaries kinetically and strategically would be greatly compromised, and interoperability with friendly forces would be adversely impacted.

5. A determination has been made that Tunisia, the recipient country, can provide the same degree of protection for the sensitive technology being released as the U.S. Government. This sale is necessary in furtherance of the U.S. foreign policy and national security objectives outlined in the Policy Justification.

6. All defense articles and services listed in this transmittal have been authorized for release and export to the Government of Tunisia.

[FR Doc. 2016-10910 Filed 5-9-16; 8:45 am]

BILLING CODE 5001-06-P